SURFACE TRANSPORTATION BOARD

[Docket No. AB 6 (Sub-No. 495X)]

BNSF Railway Company—Abandonment Exemption—in Flathead County, Montana

On April 26, 2017, BNSF Railway Company (BNSF) filed with the Surface Transportation Board (Board) a petition under 49 U.S.C. 10502 for exemption from the prior approval requirements of 49 U.S.C. 10903 to abandon a 2.7-mile rail line extending from milepost 1225.19 to the south end of the line at milepost 1227.58 and to the west end of the line at Engineering Station 189+36 (milepost 1227.10) in Kalispell, Flathead County, Minn. (the Line). The Line traverses U.S. Postal Zip Code 55901.

According to BNSF, the leaseholder and local rail service operator on the Line, Mission Mountain Railroad, L.L.C., will seek authority to discontinue its service over the Line. BNSF represents that the two customers on the Line, Northwest Drywall & Building Supply and CHS Inc., will be relocated and do not oppose the abandonment.

BNSF states that the Line does not contain any federally granted rights-of-way. Any documentation in BNSF's possession will be made available promptly to those requesting it.

The interest of railroad employees will be protected by the conditions set forth in Oregon Short Line Railroad—Abandonment Portion Goshen Branch Between Firth & Ammon, in Bingham & Bonneville Counties, Idaho, 360 I.C.C. 91 (1979).

By issuing this notice, the Board is instituting an exemption proceeding pursuant to 49 U.S.C. 10502(b). A final decision will be issued by August 14, 2017.

Any offer of financial assistance (OFA) under 49 CFR 1152.27(b)(2) for continued rail service will be due by August 24, 2017, or 10 days after service of a decision granting the petition for exemption, whichever occurs first. Each OFA must be accompanied by a $1,700 filing fee. See 49 CFR 1002.2(f)(25).

All interested persons should be aware that, following abandonment, the Line may be suitable for other public use, including interim trail use. Any request for a public use condition under 49 CFR 1152.28 or for interim trail use/rail banking under 49 CFR 1152.29 will be due no later than June 5, 2017. Each interim trail use request must be accompanied by a $300 filing fee. See 49 CFR 1002.2(f)(27).

All filings in response to this notice must refer to Docket No. AB 6 (Sub-No. 495X) and must be sent to: (1) Surface Transportation Board, 395 E Street SW., Washington, DC 20423-0001; and (2) Karl Morell, Karl Morell & Associates, 655 Fifteenth St. NW., Suite 225, Washington, DC 20005. Replies to the petition are due on or before June 5, 2017.

Persons seeking further information concerning abandonment procedures may contact the Board's Office of Public Assistance, Governmental Affairs, and Compliance at (202) 245-0238 or refer to the full abandonment or discontinuance regulations at 49 CFR part 1152. Questions concerning environmental issues may be directed to the Board's Office of Environmental Analysis (OEA) at (202) 245-0305. Assistance for the hearing impaired is available through the Federal Information Relay Service (FIRS) at 1-800-877-8339.

An environmental assessment (EA) (or environmental impact statement (EIS), if necessary) prepared by OEA will be served upon all parties of record and upon any agencies or other persons who commented during its preparation. Other interested persons may contact OEA to obtain a copy of the EA (or EIS). EAs in abandonment proceedings normally will be made available within 60 days of the filing of the petition. The deadline for submission of comments on the EA generally will be within 30 days of its service.

Board decisions and notices are available on our Web site at “WWW.STB.GOV.”

Decided: May 11, 2017.
By the Board, Rachel D. Campbell, Director, Office of Proceedings.
Brendetta S. Jones,
Clearance Clerk.

[FR Doc. 2017-09882 Filed 5-15-17; 8:45 am]

BILLING CODE 4915-01-P